DEPARTMENT OF DEFENSE

Department of the Navy

Notice of Availability of Record of Decision for the Final Environmental Impact Statement for U.S. Navy F-35C West Coast Homebasing

AGENCY: Department of the Navy, DoD.

ACTION: Notice.

SUMMARY: The Department of the Navy, after carefully weighing the strategic, operational, and environmental consequences of the proposed action, announces its decision to provide facilities and functions to support homebasing of F-35C aircraft at Naval Air Station (NAS) Lemoore, California, by accomplishing the proposed action as set out in Alternative 2 of the Environmental Impact Statement (EIS) for U.S. Navy F-35C West Coast Homebasing. Under Alternative 2, a total of 100 F-35C aircraft in seven Navy Pacific Fleet squadrons (10 aircraft per squadron) and the Fleet Replacement Squadron (30 aircraft) will be homebased at NAS Lemoore beginning in 2016. The proposed action will be completed in the 2028 timeframe. The 100 F-35C aircraft will replace 70 aging FA-18 Hornet aircraft. As a result, aircraft loading at NAS Lemoore will gradually increase by a net of 30 aircraft over the 13-year period. There will be no changes in aircraft loading at Naval Air Facility (NAF) El Centro, California, under Alternative 2. Homebasing the F-35C at NAS Lemoore will result in an increase of approximately 68,400 operations per year at NAS Lemoore and an increase of approximately 800 operations per year at NAF El Centro.

SUPPLEMENTARY INFORMATION: The complete text of the Record of Decision (ROD) is available on the project Web site at www.navyf35cwestcoasteis.com, along with the Final EIS U.S. Navy F-35C West Coast Homebasing, dated May 2014 and supporting documents. Single copies of the ROD are available upon request by contacting: U.S. Navy F-35C EIS Project Manager, Naval Facilities Engineering Command Southwest, Attn: Code EV21.AK, 1220 Pacific Highway, Building 1, 5th Floor, San Diego, California 92132.

Dated: October 6, 2014.
N.A. Hagerty-Ford,
Commander, Office of the Judge Advocate General, U.S. Navy, Federal Register Liaison Officer.

[FR Doc. 2014-24224 Filed 10-9-14; 8:45 am]

BILLING CODE 3810-FF-P